DEPARTMENT OF JUSTICE

Notice of Lodging of Consent Decree Under the Comprehensive Environmental Response, Compensation, and Liability Act

Notice is hereby given that on September 27, 2007, a proposed Partial Consent Decree (“Consent Decree”) in United States v. Afton Chemical Corp., et al., Case No. 3:06-cv-763 (“Afton Chemical”), was lodged with the United States District Court for the Southern District of Illinois.

In Afton Chemical, the United States is seeking recovery of approximately $3.5 million in response costs incurred in connection with a removal action in 1999 and 2000 (“Removal Action”) at Sauget Area 2, Southern Site Q, in Cahokia, Illinois. The proposed Consent Decree involves the following two defendants in the case: The Estate of Paul Sauget and the Estate's executor, in her representative capacity vis-à-vis the Estate (collectively, the “Estate Settling Defendants”). The proposed Consent Decree is based on the Estate Settling Defendants' limited ability to pay, as determined by a Department of Justice financial analyst. Under the proposed Consent Decree, a stipulated judgment will be entered against the Estate Settling Defendants in the amount of $351,000; the Estate Settling Defendants will pay $1.00 toward that stipulated judgment, based on their limited ability to pay; and they will be required to seek the balance of the stipulated judgment from the Estate's insurers. In exchange, the Estate Settling Defendants will receive contribution protection and a covenant by the United States not to sue them for response costs incurred in connection with the Removal Action.

For a period of 30 days from the date of this publication, the Department of Justice will receive comments relating to the proposed Consent Decree. Comments should be addressed to the Assistant Attorney General, Environment and Natural Resources Division, and should refer to United States v. Afton Chemical Corp., et al., D.J. Ref. 90-11-2-06089/1. Comments should either be e-mailed to pubcomment-ees.enrd@usdoj.gov or mailed to P.O. Box 7611, Washington, DC 20044-7611.

The proposed Consent Decree may be examined at the Office of the United States Attorney, 9 Executive Drive, Fairview Heights, IL 62208-1344, and at the U.S. Environmental Protection Agency, Region 5, 77 West Jackson Boulevard, Chicago, IL 60604-3590. During the public comment period, the proposed Consent Decree may also be examined on the following Department of Justice Web site: http://www.usdoj.gov/enrd/Consent_Decrees.html. A copy of the proposed Consent Decree may also be obtained by mail from the Consent Decree Library, P.O. Box 7611, U.S. Department of Justice, Washington, DC 20044-7611, or by e-mailing or faxing a request to Tonia Fleetwood (tonia.fleetwood@usdoj.gov, fax number (202) 514-0097, phone confirmation number (202) 514-1547). In requesting a copy from the Consent Decree Library, please enclose a check in the amount of $6.00 (25 cents per page reproduction cost) payable to the United States Treasury. If a request for a copy of the proposed Consent Decree is made by fax or e-mail, please forward a check in the aforementioned amount to the Consent Decree Library at the address noted above.

William Brighton,
Assistant Chief, Environmental Enforcement Section, Environment and Natural Resources Division.

[FR Doc. 07-5026 Filed 10-11-07; 8:45 am]

BILLING CODE 4410-15-M